ENVIRONMENTAL PROTECTION AGENCY

[FRL-7827-3]

Science Advisory Board (SAB) Staff Office Notification of Upcoming Meeting of the Regional Vulnerability Assessment Advisory Panel

AGENCY: Environmental Protection Agency (EPA).

ACTION: Notice.

SUMMARY: The EPA's Science Advisory Board (SAB) Staff Office is announcing a public face-to-face meeting of the SAB Regional Vulnerability Assessment (ReVA) Advisory Panel. The purpose of this meeting is to provide advice to EPA on the ReVA Methods for Multi-Scale Decision-Making.

DATES: The SAB ReVA Advisory Panel will meet starting Tuesday October 26, 2004 at 9 a.m., and adjourn at approximately 4 p.m. (eastern time) Wednesday October 27, 2004.

ADDRESSES: The public meeting of the Panel will be held at the Science Advisory Board Conference Center located at 1025 F Street, NW., Suite 3705, Washington, DC 20004.

FOR FURTHER INFORMATION CONTACT: Any member of the public wishing further information regarding the public meeting may contact Dr. Thomas Armitage, Designated Federal Officer (DFO), U.S. EPA Science Advisory Board by telephone/voice mail at (202) 343-9995, fax at (202) 233-0643, by e-mail at armitage.thomas@epa.gov, or by mail at U.S. EPA SAB (1400F), 1200 Pennsylvania Ave., NW., Washington, DC, 20460. General information about the SAB and the meeting location may be found on the SAB Web site at: http://www.epa.gov/sab.

SUPPLEMENTARY INFORMATION: Summary: Pursuant to the Federal Advisory Committee Act, Public Law 92-463, Notice is hereby given that the Panel will hold a public meeting to provide advice to the EPA on the Agency's Regional Vulnerability Assessment Methods for Multi-Scale Decision-Making. The dates and times for the meeting are provided above.

Background: Background on the meeting described in this notice was provided in a Federal Register Notice published on July 30, 2004 (69 FR 45706-45707). The SAB Staff Office has determined that the advisory on the Regional Vulnerability Assessment Methods for Multi-Scale Decision-Making will be conducted by the SAB's Ecological Processes and Effects Committee augmented with experts in decision science and environmental decision-making, landscape ecology, analysis of land use change, ecology and the use of geographic information system technology to analyze environmental stressors and effects, and environmental statistics. A roster of Panel members, their biosketches, and the meeting agenda will be posted on the SAB Web site prior to the meeting.

Availability of Meeting Materials: The meeting agenda and the charge to the SAB panel will be posted on the SAB Web site prior to the meeting. Meeting materials also include: (1) The EPA document, Regional Vulnerability Assessment for the Mid-Atlantic Region: Evaluation of Integration Methods and Assessments Results; (2) the EPA document, The U.S. EPA's Regional Vulnerability Assessment Program—A Research Strategy for 2001-2006; and (3) four Internet Web sites with versions of the ReVA Web-based Environmental Decision Toolkit (EDT). Copies of these materials may be obtained by contacting Dr. Betsy Smith, EPA Office of Research and Development, by telephone: 919-541-0626, or e-mail: smith.betsy@epa.gov.

Procedures for Providing Public Comments: It is the policy of the EPA SAB to accept written public comments of any length, and to accommodate oral public comments whenever possible. The SAB Staff Office expects that public statements presented at the ReVA panel meeting will not be repetitive of previously submitted oral or written statements. Oral Comments: In general, each individual or group requesting an oral presentation at a face-to-face meeting will be limited to a total time of ten minutes (unless otherwise indicated). Interested parties should contact the DFO in writing (e-mail, fax or mail—see contact information above) by close of business October 21, 2004 in order to be placed on the public speaker list for the meeting. Speakers should bring at least 35 copies of their comments and presentation slides for distribution to the participants and public at the meeting. Written Comments: Although the SAB Staff Office accepts written comments until the date of the meeting (unless otherwise stated), written comments should be received in the SAB Staff Office at least seven business days prior to the meeting date so that the comments may be made available to the panel for their consideration. Comments should be supplied to the DFO at the address/contact information noted above in the following formats: One hard copy with original signature, and one electronic copy via e-mail (acceptable file format: Adobe Acrobat, WordPerfect, Word, or Rich Text files in IBM-PC/Windows 98/2000/XP format). Those providing written comments and who attend the meeting are also asked to bring 35 copies of their comments for public distribution.

Meeting Accommodations: Individuals requiring special accommodation to access the public meetings listed above should contact the DFO at least five business days prior to the meeting so that appropriate arrangements can be made.

Dated: October 6, 2004.
Vanessa Vu,
Director, EPA Science Advisory Board Staff Office.

[FR Doc. 04-22962 Filed 10-12-04; 8:45 am]

BILLING CODE 6560-50-P[?USGPO Galley End:?]